DEPARTMENT OF COMMERCE

National Oceanic and Atmospheric Administration

[RTID 0648-XC807]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC's) Bluefish Monitoring Committee (MC) will hold a public meeting jointly with the Atlantic States Marine Fisheries Commission's Bluefish Technical Committee (TC).

DATES: The meeting will be held on Friday, March 24, 2023, from 10 a.m. to 12:30 p.m. EDT. For agenda details, see SUPPLEMENTARY INFORMATION.

ADDRESSES: The meeting will be held via webinar. Connection information will be posted to the calendar at www.mafmc.org prior to the meeting.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Bluefish Monitoring Committee and Technical Committee will meet to develop potential methods for applying a buffer between sector specific annual catch limits (ACLs) and annual catch targets (ACTs) to account for management uncertainty. At the meeting, the MC and TC will review buffer examples in other fisheries, review recent bluefish overages by sector, and discuss methods for buffer calculation. The MC and TC will also discuss bluefish specifications updates and next steps as appropriate.

Special Accommodations

The meeting is physically accessible to people with disabilities. Requests for sign language interpretation or other auxiliary aids should be directed to Shelley Spedden, (302) 526-5251 at least 5 days prior to the meeting date.

Authority: 16 U.S.C. 1801 et seq.

Dated: March 3, 2023.
Rey Israel Marquez,
Acting Deputy Director, Office of Sustainable Fisheries, National Marine Fisheries Service.

[FR Doc. 2023-04774 Filed 3-7-23; 8:45 am]

BILLING CODE 3510-22-P